DEPARTMENT OF DEFENSE

Department of the Navy

Notice of Public Meetings for the Draft Environmental Impact Statement for the Disposal and Reuse of Surplus Property at Naval Station Newport, Rhode Island

AGENCY: Department of the Navy, Department of Defense.

ACTION: Notice.

SUMMARY: Pursuant to the National Environmental Policy Act (NEPA) of 1969 (Public Law [Pub. L.] 91-190, 42 United States Code [U.S.C.] 4321-4347), as implemented by the Council on Environmental Quality (CEQ) regulations implementing NEPA (40 Code of Federal Regulations [CFR] Parts 1500-1508), the Department of the Navy (DoN) has prepared and filed the Draft Environmental Impact Statement (EIS) to evaluate the potential human and natural environmental consequences of the disposal of surplus property at Naval Station (NAVSTA) Newport, Rhode Island, by the Navy and its subsequent redevelopment by the respective municipalities in which the surplus property is geographically located. Public Law 101-510, the Defense Base Closure and Realignment Act of 1990, as amended in 2005 (BRAC Law), has directed the Navy to realign NAVSTA Newport. As a result of this action, the Navy has declared approximately 158 acres of land area at NAVSTA Newport to be surplus to the needs of the federal government.

With the filing of the Draft EIS, the DoN is initiating a 45-day public comment period and has scheduled two public open house meetings to provide information and receive written comments on the Draft EIS. Federal, state, and local elected officials and agencies and the public are encouraged to provide written comments.

DATES AND ADDRESSES: The Navy will hold two open house public meetings at the locations listed below and will allow individuals to review and comment on the information presented in the Draft EIS. DoN representatives will be available during the open house to clarify information presented in the Draft EIS, as necessary. There will not be a formal presentation.

Thursday, April 14, 2016; 4:00 p.m. to 8:00 p.m.; Joseph H. Gaudet Middle School Cafeteria; 1113 Aquidneck Ave. (Turner Rd entrance); Middletown, Rhode Island 02842.

Friday, April 15, 2016; 10:00 a.m. to 2:00 p.m.; Newport Police Department Assembly Room; 120 Broadway; Newport, Rhode Island 02840.

FOR FURTHER INFORMATION CONTACT: Director, BRAC Program Management Office (PMO) East, Attn: Newport EIS, 4911 South Broad Street, Building 679, Philadelphia, PA 19112-1303, telephone 215-897-4900, fax: 215-897-4902; email: james.e.anderson1.ctr@navy.mil. For more information on the NAVSTA Newport BRAC Draft EIS, visit the Navy BRAC PMO Web site (http://www.bracpmo.navy.mil) or the project Web site http://www.newporteis.com/.

SUPPLEMENTARY INFORMATION: The Draft EIS was prepared in accordance with the requirements of the BRAC Law; NEPA; the CEQ regulations implementing NEPA (40 CFR 1500-1508); Navy procedures for implementing NEPA (32 CFR 775), Office of the Chief of Naval Operations (OPNAV) Manual M-5090.1; and other applicable Department of Defense (DoD) and Navy policies and guidance. A Notice of Intent (NOI) to prepare this Draft EIS was published in the Federal Register on October 31, 2012 (Federal Register, Vol. 77, No. 211/Wednesday, October 31, 2012/Notices). The Navy is the lead agency for the proposed action.

The purpose of the proposed action is to comply with the BRAC Law and provide for the disposal and reuse of surplus property at NAVSTA Newport in a manner consistent with the Aquidneck Island Reuse Planning Authority's (AIRPA) Redevelopment Plan for Surplus Properties at NAVSTA Newport (Redevelopment Plan). The proposed action is needed to provide the local community an opportunity for economic development and job creation.

The Draft EIS has considered two redevelopment alternatives. Alternative 1, the preferred alternative, is the disposal of the surplus property and reuse in accordance with the Redevelopment Plan, which has been prepared and approved by the AIRPA. Alternative 1 includes mixed land use types and densities for each of four non-contiguous surplus properties as well as open space and natural areas. Alternative 2 provides for the disposal of the surplus property at NAVSTA Newport and redevelopment at a higher density and with a different mix of uses than Alternative 1. A No Action alternative was also considered, as required by NEPA and to provide a point of comparison for assessing impacts of the redevelopment alternatives.

The four surplus properties to be redeveloped are located in three separate municipalities on Aquidneck Island: Former Navy Lodge (approximately 3 acres located in the Town of Middletown), Former Naval Hospital (approximately 15.2 acres, consisting of 8.3 acres of land and 6.9 acres of offshore riparian rights, located in the City of Newport), Tank Farms 1 and 2 (approximately 136 acres located in the Town of Portsmouth), and Midway Pier/Greene Lane (approximately 10.7 acres located in the Town of Middletown).

Federal, state, and local agencies, as well as interested members of the public, are invited and encouraged to review and comment on the Draft EIS. The Draft EIS is available for viewing at the following locations: Newport Public Library (300 Spring Street, Newport, RI 02840), Town of Portsmouth Town Hall (2200 East Main Road, Portsmouth, RI 02871), City of Newport, City Hall (43 Broadway, Newport, RI 02840), and Town of Middletown Planning Department (350 East Main Road, Middletown, RI 02842).

An electronic version of the Draft EIS can be viewed or downloaded at the following Web sites— http://www.bracpmo.navy.mil and http://www.newporteis.com/. A limited number of hard copies are available by contacting BRAC PMO East at the address in this notice.

Comments can be made in the following ways: (1) Written statements can be submitted to a DoN representative at the public meeting; (2) written comments can be mailed to Director, BRAC PMO East, Attn: Newport EIS, 4911 South Broad Street, Building 679, Philadelphia, PA 19112-1303; (3) written comments can be emailed to james.e.anderson1.ctr@navy.mil; or (4) comments can be faxed to 215-897-4902, Attn: Mr. James Anderson. Comments may be submitted without attending the public meeting. All comments postmarked or emailed no later than midnight, May 2, 2016, will become part of the public record and will be responded to in the Final EIS.

Requests for special assistance, sign language interpretation for the hearing impaired, language interpreters, or other auxiliary aids for the scheduled public meetings must be sent by mail or email to Mr. Matthew Butwin, Ecology and Environment, Inc., 368 Pleasant View Drive, Lancaster, NY 14086, telephone: 716-684-8060, email: mbutwin@ene.com no later than April 1, 2016.

Dated: March 24, 2016.
C. Pan,
Lieutenant, Judge Advocate General's Corps, U.S. Navy, Alternate Federal Register Liaison Officer.

[FR Doc. 2016-07141 Filed 3-29-16; 8:45 am]

BILLING CODE 3810-FF-P